DEPARTMENT OF JUSTICE

Notice of Lodging Of Consent Decree Under The Clean Air Act

Consistent with Departmental policy and 28 CFR 50.7, notice is hereby given that on November 29, 2004, a proposed consent decree in United States v. Global Companies, LLC. et al., Civil Action No. 04-CV-12495-DPW, was lodged with the United States District Court for the District of Massachusetts.

In this action, the United States sought a civil penalty for violations of Section 211 of the Clean Air Act, 42 U.S.C. 7545, and its implementing regulations. The Consent Decree requires settling defendants Global Companies, L.L.C. and Global Petroleum Corp. to pay a $500,000 civil penalty and to perform a three-year “Compliance Assurance Program” to ensure future compliance with the requirements for importing and blending reformulated and conventional gasoline. The Department of Justice will receive for a period of thirty (30) days from the date of this publication comments relating to the consent decree. Comments should be addressed to the Assistant Attorney General, Environment and Natural Resources Division, P.O. Box 7611, U.S. Department of Justice, Washington, DC 20044-7611, and should refer to United States v. Global Companies, LLC. et al., D.J. Ref. #90-5-2-1-07738.

The consent decree may be examined at the Office of the United States Attorney, District of Massachusetts, 1 Courthouse Way, John Joseph Moakley Courthouse, Boston, MA 02210 (contact AUSA George B. Henderson), and at U.S. EPA Headquarters, Ariel Rios Building, 1200 Pennsylvania Avenue, NW., Washington, DC 20460 (contact Jocelyn L. Adair). During the public comment period, the consent decree also may be examined on the Department of Justice Web site at http://www.usdoj.gov/enrd/open.html. A copy of the consent decree also may be obtained by mail from the Consent Decree Library, P.O. Box 7611, U.S. Department of Justice, Washington, DC 20044-7611, or by faxing or e-mailing a request to Tonia Fleetwood (tonia.fleetwood@usdoj.gov), fax no. (202) 514-0097, phone confirmation number (202) 514-1547. In requesting a copy from the Consent Decree Library, please enclose a check in the amount of $4.50 (25 cents per page reproduction cost) payable to the U.S. Treasury.

Bruce S. Gelber,
Chief, Environmental Enforcement Section, Environment and Natural Resources Division.

[FR Doc. 04-27151 Filed 12-9-04; 8:45 am]

BILLING CODE 4410-15-M